DEPARTMENT OF COMMERCE

National Oceanic and Atmospheric Administration

[I.D. 042706D]

Marine Mammals; File No. 763-1845

AGENCY: National Marine Fisheries Service (NMFS), National Oceanic and Atmospheric Administration (NOAA), Commerce.

ACTION: Notice; receipt of application.

SUMMARY: Notice is hereby given that the Smithsonian National Zoological Park (SNZP), 3001 Connecticut Avenue NW, Washington, DC 20008 (John Berry, Responsible Party), has applied in due form for a permit to conduct research on Weddell seals (Leptonychotes weddelliis) and import and re-export marine mammal specimens for scientific research.

DATES: Written, telefaxed, or e-mail comments must be received on or before June 2, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 763-1845.

FOR FURTHER INFORMATION CONTACT: Amy Sloan or Tammy Adams, (301)713-2289.

SUPPLEMENTARY INFORMATION: The subject permit is requested under the authority of the Marine Mammal Protection Act of 1972, as amended (MMPA; 16 U.S.C. 1361 et seq.), and the Regulations Governing the Taking and Importing of Marine Mammals (50 CFR part 216).

The SNZP proposes to test the hypothesis that food intake is important to the energetics of lactation in Weddell seals in McMurdo Sound, Antarctica, over a 2-year period. Researchers would repeatedly capture two groups of up to 50 mother-pup pairs each (Treatment and Control) for weighing, administering isotopes, collecting blood and milk samples, and application/removal of time-depth recorders and radio transmitters. Thus, researchers would determine water turnover, maternal energy expenditure, changes in body composition, milk nutrient transfer, maternal and pup diving behavior, and the onset of feeding by mothers and pups. Researchers would compare the Treatment group to the minimally handled Control group, captured only twice (at the beginning and end of lactation), for collection of samples, weighing, and isotope administration. Ontogeny of foraging would be monitored in pups from both experimental groups (Postweaning group). Up to 80 mother-pup pairs (Cross-sectional group) would be captured once per season to examine incidence of feeding during lactation. The applicant proposes to salvage tissue samples from seals that die naturally. Samples collected from Weddell seals and opportunistic samples from non-endangered marine mammals obtained legally by others would be imported into the U.S. and re-exported for scientific analysis. The applicant has requested a 5-year permit.

Concurrent with the publication of this notice in the Federal Register, NMFS is forwarding copies of this application to the Marine Mammal Commission and its Committee of Scientific Advisors.

Dated: April 27, 2006.
Stephen L. Leathery,
Chief, Permits, Conservation and Education Division, Office of Protected Resources, National Marine Fisheries Service.

[FR Doc. E6-6718 Filed 5-2-06; 8:45 am]

BILLING CODE 3510-22-S